AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration. This meeting will occur via telephone as a conference call.

DATES: The meeting date is Tuesday, July 16, 2019, 10:30 a.m. to 12:00 p.m.

ADDRESSES: The meeting location is USADF, 1400 I St. NW, Suite 1000, Washington, DC 20005.

FOR FURTHER INFORMATION CONTACT: June Brown, (202)233-8882.

Authority: Public Law 96-533 (22 U.S.C. 290h).

Dated: July 1, 2019.
June B. Brown,
General Counsel.

[FR Doc. 2019-14357 Filed 7-3-19; 8:45 am]

BILLING CODE 6117-01-P